DEPARTMENT OF ENERGY

Federal Energy Regulatory Commission

[Docket No. EC98-40-003, et al.]

American Electric Power Company, et al.; Electric Rate and Corporate Regulation Filings

April 6, 2000.

Take notice that the following filings have been made with the Commission:

1. American Electric Power Company and Central and South West Corporation

[Docket Nos. EC98-40-003, and ER98-2770-003 and ER98-2786-004]

Take notice that on March 31, 2000, American Electric Power Company and Central and South West Corporation made their compliance filing as required under Ordering Paragraph (B) of the Commission's March 15, 2000 order in the referenced dockets.

Copies of the filing were served on all parties to the proceeding.

Comment date: April 21, 2000, in accordance with Standard Paragraph E at the end of this notice.

2. American Electric Power Company and Central and South West Corporation

[Docket Nos. EC98-40-004, ER98-2770-004 and ER98-2786-005]

Take notice that on March 31, 2000, American Electric Power Company and Central and South West Corporation filed a description of the means by which they will implement the interim energy sales discussed at pages 27-28 of the Commission's March 15, 2000 order issued in the referenced dockets.

Comment date: April 21, 2000, in accordance with Standard Paragraph E at the end of this notice.

3. Delmarva Power & Light Company and Conectiv Delmarva Generation, Inc.

[Docket No. EC00-69-000]

Take notice that on March 31, 2000, Delmarva Power & Light Company (Delmarva) and Conectiv Delmarva Generation, Inc. (CDG) (collectively, the Applicants) submitted a joint application under Section 203 of the Federal Power Act and Part 33 of the Commission's Regulations to request authorization and approval for Delmarva to transfer to CDG certain jurisdictional transmission facilities related to the Keystone and Conemaugh generating plants, which will also be transferred to CDG. The Applicants' proposed closing date for the transfer is June 1, 2000. The Applicants request approval of the transfer during May 2000.

The Applicants state that copies of this joint application have been served upon Delmarva's wholesale requirements customers, the transmission dependent utilities with whom Delmarva has interconnection agreements, and the state regulatory commissions of Delaware, Maryland, Pennsylvania and Virginia and on the Pennsylvania-New Jersey-Maryland Interconnection, LLC.

Comment date: May 1, 2000, in accordance with Standard Paragraph E at the end of this notice.

4. Interstate Power Company and IES Utilities Inc.

[Docket No. EC00-70-000]

Take notice that on March 31, 2000, Interstate Power Company (IPC) and IES Utilities Inc. (IES) tendered for filing an Application for Authorization and Approval of Merger. Filing requirements were submitted pursuant to Section 203 of the Federal Power Act and Part 33 of the Commission's Rules and Regulations.

Under the terms of the Merger Agreement between IPC and IES, IPC will be merged into IES and the surviving corporation will be renamed upon the consummation of the merger. Both Applicants are wholly-owned subsidiaries of Alliant Energy Corporation. At the time of merger, all of the shares of common stock of IPC, wholly-owned by Alliant Energy, will be fully redeemed and retired.

The Applicants submit that the merger of IPC and IES would be consistent with the public interest as required by Section 203 of the Federal Power Act. Applicants therefore request that the Commission authorize the merger without the necessity of hearing.

Comment date: May 30, 2000, in accordance with Standard Paragraph E at the end of this notice.

5. Rio de Este Barge Power LLC

[Docket No. EG00-123-000]

Take notice that on March 31, 2000, Rio de Este Barge Power LLC filed with the Federal Energy Regulatory Commission an application for determination of exempt wholesale generator status pursuant to section 32(a)(1) of the Public Utility Holding Company Act of 1935 (PUHCA). The applicant is a limited liability company organized under the laws of the State of Delaware that will be engaged directly and exclusively in owning and operating a barge-mounted generating facility that will be located initially on the East River in New York City (Facility) and selling electric energy at wholesale.

Comment date: April 27, 2000, in accordance with Standard Paragraph E at the end of this notice. The commission will limit its consideration of comments to those that concern the adequacy or accuracy of the application.

6. Florida Power Corporation

[Docket No. ER00-1983-000]

Take notice that on March 28, 2000, Florida Power Corporation (Florida Power) filed amendments to its All Requirements Service Agreement dated September 4, 1990 for all requirements service to the City of Mount Dora, Florida (Mount Dora). That agreement is on file with the Commission as Florida Power FERC Rate Schedule No. 127. Florida Power states that the filing qualifies as an abbreviated rate filing pursuant to Section 35.129a0(2)(iii) of the Commission's regulations because the amendments to the agreement are rate schedule changes other than rate increases.

Florida Power requests the filing to become effective on April 1, 2000.

Comment date: April 18, 2000, in accordance with Standard Paragraph E at the end of this notice.

7. New England Power Pool

[Docket No. ER00-2060-000]

Take notice that on March 31, 2000, the New England Power Pool (NEPOOL) Participants Committee filed a request for termination of membership in NEPOOL, with an effective date of April 1, 2000, of Avista Energy, Inc. (Avista). Such termination is pursuant to the terms of the NEPOOL Agreement dated September 1, 1971, as amended (the NEPOOL Agreement), and previously signed by Avista. The NEPOOL Agreement has been designated NEPOOL FPC No. 2.

The Participants Committee states that termination of Avista with an effective date of April 1, 2000 would relieve Avista, at it's request, of the obligations and responsibilities of NEPOOL membership and would not change the NEPOOL Agreement in any manner, other than to remove Avista from membership in NEPOOL.

Comment date: April 21, 2000, in accordance with Standard Paragraph E at the end of this notice.

8. Central Maine Power Company

[Docket No. ER00-2063-000]

Take notice that on March 30, 2000, Central Maine Power Company (CMP) submitted “Unexecuted Service Agreements for Local Network Transmission Service” and “Unexecuted Local Network Operating Agreements”. CMP states that these transactions are contemplated as part of the State of Maine's restructuring of the electric utility industry.

CMP requests that the Commission allow these Agreements to be deemed effective on March 1, 2000 in order to coincide with the commencement of retail access in the State of Maine. .

Comment date: April 20, 2000, in accordance with Standard Paragraph E at the end of this notice.

9. Illinois Power Company

[Docket No. ER00-2066-000]

Take notice that, on March 31, 2000, Illinois Power Company (Illinois Power), 500 South 27th Street, Decatur, Illinois 62521, tendered for filing a Service Agreement for Network Integration Transmission Service and a Network Operating Agreement under which Illinois Power Company—Power Purchase Option will take transmission service pursuant to Illinois Power's open access transmission tariff (OATT). The agreements are based on the forms of agreements in Illinois Power's OATT.

Illinois Power has requested an effective date of December 9, 1999.

Comment date: April 21, 2000, in accordance with Standard Paragraph E at the end of this notice.

10. Boston Edison Company

[Docket No. ER00-2067-000]

Take notice that on March 31, 2000, Boston Edison Company (BECo) tendered for filing an unexecuted Related Facilities Agreement between BECo and ANP Bellingham Energy Company (ANP). BECo states that the Related Facilities Agreement is being filed in unexecuted form at the request of ANP due to disagreement between the parties on cost responsibility for construction outage related costs.

BECo has requested an effective date upon the later to occur May 29, 2000.

BECo states that it has served a copy of the filing on ANP and the Massachusetts Department of Telecommunications and Energy.

Comment date: April 21, 2000, in accordance with Standard Paragraph E at the end of this notice.

11. Ameren Services Company

[Docket No. ER00-2068-000]

Take notice that on March 31, 2000, Ameren Services Company (Ameren) tendered for filing an unexecuted Network Integration Transmission Service Agreement and associated Network Operating Agreement, between Ameren and Wayne-White Counties Electric Cooperative, Inc. (Wayne-White). Ameren asserts that the purpose of the agreements is to permit Ameren to provide network service over its transmission and distribution facilities to Wayne-White under the Ameren Open Access Tariff.

Ameren seeks on effective date of March 1, 2000 and, accordingly, seeks waiver of the Commission's notice requirements.

Comment date: April 21, 2000, in accordance with Standard Paragraph E at the end of this notice.

12. Indeck-Rockford, L.L.C.

[Docket No. ER00-2069-000]

Take notice that on March 31, 2000, Indeck-Rockford, L.L.C. submitted for filing, pursuant to Section 205 of the Federal Power Act and Part 35 of the Commission's regulations, an application for authorization to make sales of electric energy and capacity at market-based rates, and for related waivers and blanket authorizations.

Comment date: April 21, 2000, in accordance with Standard Paragraph E at the end of this notice.

13. Rio de Este Barge Power LLC

[Docket No. ER00-2070-000]

Take notice that on March 31, 2000, Rio de Este Barge Power LLC (Seller), a limited liability corporation organized under the laws of the State of Delaware, petitioned the Commission for an order: (1) Accepting Seller's proposed Rate Schedule FERC No. 1 (Market-Based Rate Schedule); (2) granting waiver of certain requirements under Subparts B and C of Part 35 of the regulations, and (3) granting the blanket approvals normally accorded sellers permitted to sell at market-based rates. Seller is an indirect subsidiary of Northern States Power Company that intends to own and operate a generating facility on a barge on the East River in New York City.

Comment date: April 21, 2000, in accordance with Standard Paragraph E at the end of this notice.

14. Lakefield Junction, L.P.

[Docket No. ER00-2071-000]

Take notice that on March 31, 2000, Lakefield Junction, L.P. (Seller), a limited partnership organized under the laws of the State of Delaware, petitioned the Commission for an order: (1) Accepting Seller's proposed Rate Schedule FERC No. 1 (Market-Based Rate Schedule); (2) granting waiver of certain requirements under Subparts B and C of Part 35 of the regulations, (3) granting the blanket approvals normally accorded sellers permitted to sell at market-based rates, and (4) granting expedited consideration. Seller is an affiliate of Northern States Power Company and Tenaska, Inc.

Comment date: April 21, 2000, in accordance with Standard Paragraph E at the end of this notice.

15. Wisconsin Public Service Corporation

[Docket No. ER00-2072-000]

Take notice that on March 31, 2000, Wisconsin Public Service Corporation (WPSC) tendered for filing an executed Service Agreement with Allegheny Energy Supply Company, LLC, providing for transmission service under FERC Electric Tariff, Volume No. 1.

WPSC requests that the agreement be made effective on March 24, 2000.

Comment date: April 21, 2000, in accordance with Standard Paragraph E at the end of this notice.

16. Wisconsin Public Service Corporation

[Docket No. ER00-2073-000]

Take notice that on March 31, 2000, Wisconsin Public Service Corporation (WPSC) tendered for filing an executed Service Agreement with Allegheny Energy Supply Company, LLC, providing for transmission service under FERC Electric Tariff, Volume No. 1.

WPSC requests that the agreement be made effective on March 24, 2000.

Comment date: April 21, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-9303 Filed 4-13-00; 8:45 am]

BILLING CODE 6717-01-P